DEPARTMENT OF THE INTERIOR

Bureau of Indian Affairs

Submission of Information Collection for Probate to the Office of Management and Budget

AGENCY: Bureau of Indian Affairs, Interior.

ACTION: Notice of Submission to Office of Management and Budget for renewal.

SUMMARY: As required by the Paperwork Reduction Act of 1995, we are submitting to the Office of Management and Budget the information collection found in the general Probate of Indian Decedents' Estates, Except for Member of the Five Civilized Tribes regulations. The purpose of this data collection is to ensure that Probate regulations are administered for the benefit of individual Indians and any persons having claims against an Indian decedent's estate.

DATES: Comments on this proposed information collection must be received by March 30, 2007.

ADDRESSES: You may submit comments to the Desk Officer for the Department of the Interior by e-mail to OIRA_DOCKET@omb.eop.gov. or by facsimile to (202) 395-6566.

Send a copy of the comments to Bill Titchwy, Bureau of Indian Affairs Western Regional Office, Division of Probate, 400 N. Fifth Street, 10th Floor, Two Arizona Center, Phoenix, AZ 85004. Comments may also be telefaxed to (602) 379-4005. We cannot accept E-mail comments at this time.

FOR FURTHER INFORMATION CONTACT: William Titchwy, 602-379-4002.

SUPPLEMENTARY INFORMATION: The information provided through collection requirements is used by the Department of the Interior, BIA, to determine heirs and divide any funds held by the BIA for an Indian decedent and to divide the decedent's trust and restricted real property. The information is particularly used by the Bureau of Indian Affairs in:

(a) Instructing an individual in starting the probate process;

(b) Preparing a probate package for review;

(c) Filing claims;

(d) Disbursing assets; and

(e) Filing appeals for adverse decisions.

Request for Comments

A notice requesting comments was published in the Federal Register November 1, 2006 (71 FR 64391). No comments were received. The Bureau of Indian Affairs now requests your comments on this collection be sent to the Desk Officer for the Department of Interior at the Office of Management and Budget. Please address the following:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as facilitating use of automation for collection techniques or other forms of information technology.

Please note that an agency may not sponsor or request, and an individual need not respond to, a collection of information unless it has a valid OMB Control Number.

OMB has 60 days in which to make a decision about this collection but may act after 30 days. Therefore, to ensure maximum consideration of your comments, please send close to the 30 days after publication.

OMB Control Number: 1076-0156.

Type of Review: Renewal.

Title: Probate of Indian Estates, Except for Members of the Five Civilized Tribes, 25 CFR 15.

Brief Description of Collection: Information is collected through the probate process when BIA learns of a decedent's death from a neighbor, friend, or any other interested person who provides a copy of decedent's obituary notice from a local newspaper or when BIA receives an affidavit of death prepared by someone who knows about the decedent. BIA also requires other documents to process the probate package. An interested party must inform BIA if any of the documents or information identified are not available.

Respondents: Possible respondents include: Individual tribal members, individual non-Indians, individual tribal member-owned businesses, non-Indian owned businesses, tribal governments, and land owners who are seeking a benefit.

Number of Responses: 208,073 annually.

Annual hours: 1,129,157.

Estimated Time per Response: Varies from 1/2 to 44.25 hours.

Frequency of Response: As required.

Dated: February 23, 2007.
Grayford Payne,
Acting Principal Deputy Assistant Secretary—Indian Affairs.

[FR Doc. E7-3497 Filed 2-27-07; 8:45 am]

BILLING CODE 4310-W7-P